DEPARTMENT OF HEALTH AND HUMAN SERVICES

Centers for Disease Control and Prevention

[CDC-2014-0013; Docket Number NIOSH-274]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health (NIOSH) of the Centers for Disease Control and Prevention (CDC), announces the availability of the following publication: “NIOSH Current Intelligence Bulletin 67: Promoting Health and Preventing Disease and Injury through Workplace Tobacco Policies” [2015-113].

ADDRESSES: This document may be obtained at the following link: http://www.cdc.gov/niosh/docs/2015-113/.

FOR FURTHER INFORMATION CONTACT: Michelle Martin, NIOSH Division of Respiratory Disease Studies, 1095 Willowdale Road, Mailstop H-2900, Morgantown, WV 26505-2888. (304) 285-5734 (not a toll free number).

Dated: April 9, 2015.
John Howard,
Director, National Institute for Occupational Safety and Health, Centers for Disease Control and Prevention.

[FR Doc. 2015-08737 Filed 4-15-15; 8:45 am]

BILLING CODE 4163-19-P